ENVIRONMENTAL PROTECTION AGENCY

[EPA-HQ-OGC-2025-0585; FRL-12876-01-OGC]

Proposed Consent Decree, Clean Air Act Citizen Suit

AGENCY: Environmental Protection Agency (EPA).

ACTION: Notice of proposed consent decree; request for public comment.

SUMMARY: In accordance with the Clean Air Act, as amended (CAA or the Act), notice is given of a proposed consent decree in Committee for a Better Arvin, et al. v. U.S. EPA, et al., No. 3:25-cv-03326-MMC. On April 14, 2025, Plaintiffs Committee for a Better Arvin, Healthy Environment for All Lives, Medical Advocates for Healthy Air and Sierra Club filed a complaint in the United States District Court for the Northern District of California, alleging that the Environmental Protection Agency (EPA) failed to perform certain non-discretionary duties in accordance with the Act to determine whether the San Joaquin Valley area attained, or failed to attain, the 1997 ozone national ambient air quality standards (NAAQS) by the applicable attainment date, and to take final action on a state implementation plan (SIP) revision submitted by the State of California pertaining to the contingency measures requirement for purposes of the 1997 ozone NAAQS in the San Joaquin Valley area. The EPA is providing notice of this proposed consent decree, which would resolve all claims in the case by establishing deadlines for the EPA to take final actions as specified in the decree.

DATES: Written comments on the proposed consent decree must be received by September 8, 2025.

ADDRESSES: Submit your comments, identified by Docket ID No. EPA-HQ-OGC-2025-0585, online at https://www.regulations.gov (EPA's preferred method). Follow the online instructions for submitting comments.

Instructions: All submissions received must include the Docket ID number for this action. Comments received may be posted without change to https://www.regulations.gov, including any personal information provided. For detailed instructions on sending comments and additional information on the rulemaking process, see the “Additional Information about Commenting on the Proposed Consent Decree” heading under the SUPPLEMENTARY INFORMATION section of this document.

FOR FURTHER INFORMATION CONTACT: Geoffrey L. Wilcox, Air and Radiation Law Office, Office of General Counsel, U.S. Environmental Protection Agency; telephone (202) 564-5601; email address wilcox.geoffrey@epa.gov.

SUPPLEMENTARY INFORMATION:

I. Obtaining a Copy of the Proposed Consent Decree

The official public docket for this action (identified by Docket ID No. EPA-HQ-OGC-2025-0585) contains a copy of the proposed consent decree. The official public docket is available for public viewing at the Office of Environmental Information (OEI) Docket in the EPA Docket Center, EPA West, Room 3334, 1301 Constitution Ave. NW, Washington, DC. The EPA Docket Center Public Reading Room is open from 8:30 a.m. to 4:30 p.m., Monday through Friday, excluding legal holidays. The telephone number for the Public Reading Room is (202) 566-1744 and the telephone number for the OEI Docket is (202) 566-1752.

The electronic version of the public docket for this action contains a copy of the proposed consent decree and is available through https://www.regulations.gov. You may use https://www.regulations.gov to submit or view public comments, access the index listing of the contents of the official public docket, and access those documents in the public docket that are available electronically. Once in the system, key in the appropriate docket identification number then select “search.”

II. Additional Information About the Proposed Consent Decree

The proposed consent decree would establish a deadline for the EPA to take action to determine whether the San Joaquin Valley nonattainment area attained, or failed to attain, the 1997 ozone NAAQS by the applicable attainment date. The EPA continues to determine whether nonattainment areas for the revoked 1997 ozone NAAQS attain, or fail to attain, the 1997 ozone NAAQS by the applicable attainment dates for anti-backsliding purposes to address an applicable requirement for nonattainment contingency measures and CAA section 185 fee programs. 40 CFR 51.1105(d)(2)(iii).

The proposed consent decree would also establish a deadline for the EPA to take action pursuant to CAA section 110(k) on a SIP revision titled “California Smog Check Contingency Measure State Implementation Plan Revision” (“Smog Check Contingency Measure SIP”), submitted by the State of California on November 13, 2023. The Smog Check Contingency Measure SIP addresses the attainment contingency measure requirements for the San Joaquin Valley area for the 1997 ozone NAAQS.

The proposed consent decree would require the EPA to sign a notice of final rulemaking determining whether San Joaquin Valley attained, or failed to attain, the 1997 ozone NAAQS by the applicable attainment date by September 15, 2025. The proposed consent decree would also require the EPA to sign a notice of final rulemaking taking final action on the Smog Check Contingency Measure SIP submission (with respect to the attainment contingency measure requirements for the San Joaquin Valley area for the 1997 ozone NAAQS) by January 23, 2026. In both instances, the proposed consent decree would require the EPA, within 15 business days of signature, to send the required signed notices of final rulemaking to the Office of Federal Register for review and publication.

In accordance with section 113(g) of the CAA, for a period of thirty (30) days following the date of publication of this document, the Agency will accept written comments relating to the proposed consent decree. The EPA or the Department of Justice may withdraw or withhold consent to the proposed consent decree if the comments disclose facts or considerations that indicate that such consent is inappropriate, improper, inadequate, or inconsistent with the requirements of the Act.

III. Additional Information About Commenting on the Proposed Consent Decree

Submit your comments, identified by Docket ID No. EPA-HQ-OGC-2025-0585, via https://www.regulations.gov. Once submitted, comments cannot be edited or removed from this docket. The EPA may publish any comment received to its public docket. Do not submit to the EPA's docket at https://www.regulations.gov any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets. For additional information about submitting information identified as CBI, please contact the person listed in the FOR FURTHER INFORMATION CONTACT section of this document. Note that written comments containing CBI and submitted by mail may be delayed and deliveries or couriers will be received by scheduled appointment only.

If you submit an electronic comment, the EPA recommends that you include your name, mailing address, and an email address or other contact information in the body of your comment. This ensures that you can be identified as the submitter of the comment and allows the EPA to contact you in case the EPA cannot read your comment due to technical difficulties or needs further information on the substance of your comment. Any identifying or contact information provided in the body of a comment will be included as part of the comment that is placed in the official public docket and made available in the EPA's electronic public docket. If the EPA cannot read your comment due to technical difficulties and cannot contact you for clarification, the EPA may not be able to consider your comment.

Use of the https://www.regulations.gov website to submit comments to the EPA electronically is the EPA's preferred method for receiving comments. The electronic public docket system is an “anonymous access” system, which means the EPA will not know your identity, email address, or other contact information unless you provide it in the body of your comment.

Please ensure that your comments are submitted within the specified comment period. Comments received after the close of the comment period will be marked “late.” The EPA is not required to consider these late comments.

Gautam Srinivasan,
Associate General Counsel.

[FR Doc. 2025-14978 Filed 8-6-25; 8:45 am]

BILLING CODE 6560-50-P